FEDERAL COMMUNICATIONS COMMISSION

Sunshine Act Meeting; Deletion of Agenda Item From October 16th Open Meeting

October 15, 2003.

The following item has been deleted from the list of Agenda items scheduled for consideration at the October 16, 2003, Open Meeting and previously listed in the Commission's Notice of October 9, 2003.

3. | Wireless Tele-Communications and International | Title: Auction of Direct Broadcast Satellite Licenses (AUC-03-52). Summary: The Commission will consider an Order to resolve issues raised in the Auction No. 52 Comment Public Notice related to the Commission's authority to auction Direct Broadcast Satellite (“DBS”) licenses and eligibility for the U.S. DBS licenses currently available.

Federal Communications Commission.
Marlene H. Dortch,
Secretary.

[FR Doc. 03-26770 Filed 10-20-03; 12:42 pm]

BILLING CODE 6712-01-P